DEPARTMENT OF DEFENSE

Department of the Navy

Notice of Intent To Grant Exclusive License; Daniel G. Jablonski

AGENCY: Department of the Navy, DOD.

ACTION: Notice.

SUMMARY: The Department of the Navy gives notice of its intent to grant Daniel G. Jablonski, a revocable, nonassignable, exclusive license in the United States to practice the Government-owned invention, U.S. Patent Number 4,881,080 Apparatus for and a Method of Determining Compass Headings.

DATES: Anyone wishing to object to the grant of this license must file written objections along with supporting evidence, if any not later than December 12, 2000.

ADDRESSES: Written objections are to be filed with Carderock Division, Naval Surface Warfare Center, Code 004, 9500 MacArthur Blvd., West Bethesda MD 20817-5700.

FOR FURTHER INFORMATION CONTACT: Mr. Dick Bloomquist, Director Technology Transfer, Carderock Division, Naval Surface Warfare Center, Code 0117, 9500 MacArthur Blvd., West Bethesda, MD 20817-5700, (301) 227-4299.

Dated: September 26, 2000.
J.L. Roth,
Judge Advocate General's Corps, U.S. Navy, Federal Register Liaison Officer.

[FR Doc. 00-26269 Filed 10-12-00; 8:45 am]

BILLING CODE 3810-FF-P